Order of September 13, 2017

Regarding the Proposed Acquisition of Lattice Semiconductor Corporation by China Venture Capital Fund Corporation Limited

By the authority vested in me as President by the Constitution and the laws of the United States of America, including section 721 of the Defense Production Act of 1950, as amended (section 721), 50 U.S.C. 4565, it is hereby ordered as follows:

Section 1. Findings. (a) There is credible evidence that leads me to believe that (1) Canyon Bridge Merger Sub, Inc., a corporation organized under the laws of Delaware (Merger Sub); (2) Merger Sub's parent companies Canyon Bridge Acquisition Company, Inc., a corporation organized under the laws of Delaware (Acquisition Company), Canyon Bridge Capital Investment Limited, an entity organized under the laws of the Cayman Islands (Capital Investment), and Canyon Bridge Fund I, LP (CBFI), a limited partnership organized under the laws of Delaware; and (3) CBFI's limited partner Yitai Capital Limited, a company organized under the laws of Hong Kong (Yitai), and Yitai's parent company China Venture Capital Fund Corporation Limited, a corporation organized under the laws of the People's Republic of China (CVCF and, together with Merger Sub, Acquisition Company, Capital Investment, CBFI, and Yitai, the Purchasers), through exercising control of Lattice Semiconductor Corporation, a corporation organized under the laws of Delaware (Lattice), might take action that threatens to impair the national security of the United States; and

(b) Provisions of law, other than section 721 and the International Emergency Economic Powers Act (50 U.S.C. 1701 et seq.), do not, in my judgment, provide adequate and appropriate authority for me to protect the national security in this matter.

Sec. 2. Actions Ordered and Authorized. On the basis of the findings set forth in section 1 of this order, considering the factors described in subsection 721(f) of the Defense Production Act of 1950, as appropriate, and pursuant to my authority under applicable law, including section 721, I hereby order that:

(a) The proposed acquisition of Lattice by the Purchasers (the proposed transaction) is prohibited, and any substantially equivalent transaction, whether effected directly or indirectly by the Purchasers, through the Purchasers' shareholders or shareholders' immediate, intermediate, or ultimate foreign person beneficial owners, or through the Purchasers' subsidiaries, is also prohibited.

(b) The Purchasers and Lattice shall take all steps necessary to fully and permanently abandon the proposed transaction not later than 30 days after the date of this order, unless such date is extended by the Committee on Foreign Investment in the United States (CFIUS) for a period not to exceed 90 days, on such conditions as CFIUS may require. Immediately upon completion of all steps necessary to terminate the proposed transaction, the Purchasers and Lattice shall certify in writing to CFIUS that such termination has been effected in accordance with this order and that all steps necessary to fully and permanently abandon the proposed transaction have been completed.

(c) From the date of this order until the Purchasers and Lattice provide a certification of termination of the proposed transaction to CFIUS pursuant to subsection (b) of this section, the Purchasers and Lattice shall certify to CFIUS on a weekly basis that they are in compliance with this order and include with that certification a description of all efforts to permanently abandon the proposed transaction and a timeline for projected completion of remaining actions necessary to effectuate the abandonment.

(d) Any transaction or other device entered into or employed for the purpose of, or with the effect of, avoiding or circumventing this order is prohibited.

(e) The Attorney General is authorized to take any steps necessary to enforce this order.

Sec. 3. Reservation. I hereby reserve my authority to issue further orders with respect to the Purchasers or Lattice as shall in my judgment be necessary to protect the national security of the United States.

Sec. 4. Publication and Transmittal. (a) This order shall be published in the Federal Register.

(b) I hereby direct the Secretary of the Treasury to transmit a copy of this order to the parties to the proposed transaction named in section 1 of this order.

THE WHITE HOUSE,

September 13, 2017.

[FR Doc. 2017-20005

Filed 9-15-17; 11:15 am]

Billing code 3295-F7-P